INTERNATIONAL TRADE COMMISSION

[Investigation No. 332-576]

COVID-19 Related Goods: U.S. Imports and Tariffs; Institution of Investigation

AGENCY: United States International Trade Commission.

ACTION: Notice of investigation.

SUMMARY: Following receipt on April 7, 2020, of a request from the House Committee on Ways and Means and the Senate Committee on Finance (the Committees), under section 332(g) of the Tariff Act of 1930, the U.S. International Trade Commission (Commission) instituted Investigation No. 332-576, COVID-19 Related Goods: U.S. Imports and Tariffs, for the purpose of providing a report that identifies imported goods related to the response to COVID-19, their source countries, tariff classifications, and applicable rates of duty.

DATES:

April 30, 2020: Date by which the Commission will transmit the report to the Committees.

June 30, 2020: Date through which the Commission will provide updated data runs to the Committees.

ADDRESSES: All Commission offices, including the Commission's hearing rooms, are located in the U.S. International Trade Commission Building, 500 E Street SW, Washington, DC. The public record for this investigation may be viewed on the Commission's electronic docket (EDIS) at https://edis.usitc.gov.

FOR FURTHER INFORMATION CONTACT: Project Leader Mihir Torsekar (202-205-3350 or Mihir.Torsekar@usitc.gov) or Project Leader Andrew David (202-205-3368 or Andrew.David@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov).

Background: As requested by the Committees, the Commission will conduct an investigation and prepare a report that, to the extent practical, identifies imported goods related to the response to COVID-19, their source countries, tariff classifications, and applicable rates of duty. For each product that the Commission so identifies, the Commission will seek to provide:

1. The 10-digit HTS code for the article;

2. its legal description;

3. general duty rate;

4. any special or additional rates of duty imposed on the article, the dates on which the rates were imposed, and the authorities under which they were imposed;

5. whether any such duties have been suspended and, if so, the date of suspension as well as how long the suspension is scheduled to last;

6. the total rate of duty imposed on such article, including any special or additional rate of duty; and

7. the major countries of origin for each such article, and the import value of each such article from each country for the years 2017-2019.

The Committees asked that the Commission deliver the report as soon as possible, but no later than April 30, 2020. The Committees further requested that the Commission provide any relevant updated data runs on its website through June 30, 2020. The Committees stated that they intend to make the Commission's report available to the public and asked that the report not include any confidential business information.

Confidential Business Information. As requested by the Committees, the Commission will not include any confidential business information in the report that it sends to the Committees. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel (a) for cybersecurity purposes or (b) in monitoring user activity on U.S. government classified networks. The Commission will not otherwise disclose any confidential business information in a way that would reveal the operations of the firm supplying the information.

By order of the Commission.
Issued: April 13, 2020.
William Bishop,
Supervisory Hearings and Information Officer.

[FR Doc. 2020-08144 Filed 4-16-20; 8:45 am]

BILLING CODE 7020-02-P